DEPARTMENT OF TRANSPORTATION

Office of the Secretary

Aviation Proceedings

Notice of Applications for Certificates of Public Convenience and Necessity and Foreign Air Carrier Permits Filed Under Subpart B (formerly Subpart Q) during the Week Ending October 5, 2001. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-10748.

Date Filed: October 1, 2001.

Due Date for Answers, Conforming Applications, or Motion to Modify Scope: October 22, 2001.

Description: Application of Pacific Airways, Inc. pursuant to 49 U.S.C. Section 41102 and Subpart B, requesting a certificate of public convenience and necessity authorizing interstate scheduled air transportation.

Docket Number: OST-2001-10792.

Date Filed: October 5, 2001.

Due Date for Answers, Conforming Applications, or Motion to Modify Scope: October 26, 2001.

Description: Application of Northwest Airlines, Inc. pursuant to 49 U.S.C. 41108, and 41102 and Subpart B, requesting issuance of a certificate of public convenience and necessity authorizing it to engage in the scheduled foreign air transportation of persons, property and mail between a point or points in the United States via intermediate points to a point or points in Italy and beyond. Northwest also requests that the Department integrate this certificate authority with all of Northwest's existing certificate and exemption authority to the extent consistent with U.S. bilateral agreements and Department policy.

Dorothy Y. Beard,
Federal Register Liaison.

[FR Doc. 01-26147 Filed 10-16-01; 8:45 am]

BILLING CODE 4910-62-P